DEPARTMENT OF AGRICULTURE

Submission for OMB Review; Comment Request

January 6, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Risk Management Agency

Title: General Administrative Regulations; Interpretations of Statutory and Regulatory Provisions.

OMB Control Number: 0563-0055.

Summary of Collection: Section 533 of the Agricultural Research, Extension, and Education Reform Act of 1998 (1998 Research Act) requires the Federal Crop Insurance Corporation (FCIC) to publish regulation on how FCIC will provide a final agency determination in response to certain inquiries. This section provides procedures when FCIC fails to respond in the established time, the interpretation of the requested is considered correct for the crop year. It becomes necessary for the requester, or respondent, to identify himself so he can be provided a response and also to state his interpretation of the regulation for which he is seeking a final agency interpretation.

Need and Use of the Information: FCIC will use the requester's name and address to provide a response. The identification and quotation of the specific provision in the 1998 Research Act or regulations allows FCIC to research and respond to the specific identified provision. The respondent's detailed interpretation of the regulation is required to comply with the requirements of Sec. 533 of the 1998 Research Act and to clarify the boundaries of the request to FCIC. If the requested information is not collected with each submission, FCIC would not be able to comply with the statutory mandates.

Description of Respondents: Business or other for-profit; Farms.

Number of Respondents: 45.

Frequency of Responses: Reporting: On occasion.

Total Burden Hours: 78.

Risk Management Agency

Title: Request for Applications for Research Partnerships.

OMB Control Number: 0563-0065.

Summary of Collection: The Federal Crop Insurance Act of 2002 authorizes the Federal Crop Insurance Corporation to enter into partnerships with public and private entities for the purpose of increasing the availability of risk management tools for producers of agricultural commodities. The Risk Management Agency (RMA) has developed procedures for the preparation, submission and evaluation of applications.

Need and Use of the Information: RMA and a review panel of independent reviewers will use the information to determine applicant eligibility and to evaluate the applications. The qualifying applicants will be scored on each of five criteria: Research objectives; RMA involvement/non-financial benefits; research methodology, development, and implementation; management; and bonus points for proposals that address RMA priorities and/or are submitted by applicants representing a geographically diverse area. Scores are totaled, listed in rank order and are used for the final decision on awards. If the information is not collected, the consequences would be a missed opportunity to improve and or develop new risk management tools for agricultural producers. The impact would affect those segments of agriculture lacking access to existing risk management tools.

Description of Respondents: State, Local, or Tribal Government; Not-for-profit Institutions.

Number of Respondents: 100.

Frequency of Responses: Reporting: Occasion.

Total Burden Hours: 3,533.

Risk Management Agency

Title: Risk Management and Crop Insurance Education; Request for Applications.

OMB Control Number: 0563-0067.

Summary of Collection: The Federal Crop Insurance Act, Title 7 U.S.C. Chapter 36 Section 1508(k) authorizes the Federal Crop Insurance Corporation (FCIC) to provide reinsurance to insurers approved by FCIC that insure producers of any agricultural commodity under one or more plans acceptable to FCIC. FCIC operating through the Risk Management Agency (RMA) has two application programs to carryout certain risk management education provisions of the Federal Crop Insurance Act. The two educational programs requiring application are: To establish crop insurance education and information programs in States that have been historically underserved by the Federal Crop Insurance Program; and to provide agricultural producers with training opportunities in risk management with a priority given to producers of specialty crops and underserved commodities. Funds are available to fund parties willing to assist RMA in carrying out local and regional risk management can crop insurance education programs.

Need and Use of the Information: Applicants are required to submit completed application packages in hard copy to RMA. RMA and review panel will evaluate and rank applicants as well as use the information to properly document and protect the integrity of the process used to select applications for funding. For applicants that are selected, the information will be used to create the terms of cooperative agreements between the applicant and the agency and will not be shared outside of RMA.

Description of Respondents: Not-for-profit institutions; Business or other for-profit; State, Local, or Tribal Government.

Number of Respondents: 220.

Frequency of Responses: Reporting: On occasion.

Total Burden Hours: 2,256.

Charlene Parker,
Departmental Information Clearance Officer.

[FR Doc. E9-301 Filed 1-9-09; 8:45 am]

BILLING CODE 3410-08-P